DEPARTMENT OF COMMERCE

International Trade Administration

[A-357-812]

Honey From Argentina: Final Rescission of Antidumping Duty New Shipper Review

AGENCY: Import Administration, International Trade Administration, Department of Commerce.

DATES: Effective Date: October 30, 2012.

SUMMARY: On July 31, 2012, the Department of Commerce (the “Department”) published a notice of preliminary rescission of the new shipper review (“NSR”) of D'Ambros María de los Angeles and D'Ambros María Daniela SH, an Argentine partnership doing business as Apícola Danangie (“Danangie”), under the antidumping duty order on honey from Argentina for the period of December 1, 2010, through November 30, 2011.¹ We invited interested parties to comment on our preliminary rescission. We did not receive comments from any party. As discussed below, based on our analysis of the record, the Department has determined that Danangie did not satisfy the regulatory requirements for a NSR; therefore, we are rescinding this NSR.

¹ See Honey from Argentina: Preliminary Rescission of Antidumping Duty New Shipper Review, 77 FR 45334 (July 31, 2012) (Preliminary Rescission).

FOR FURTHER INFORMATION CONTACT: Patrick Edwards or Angelica Mendoza, AD/CVD Operations, Office 7, Import Administration, International Trade Administration, U.S. Department of Commerce, 14th Street and Constitution Avenue NW., Washington, DC, 20230; telephone: (202) 482-8029 or (202) 482-3019, respectively.

SUPPLEMENTARY INFORMATION:

Background

We published the notice of preliminary rescission of this new shipper review on July 31, 2012.² In the Preliminary Rescission, the Department found that Danangie, based on the company's own submission to the Department, did make a sale of subject merchandise which was shipped to the United States prior to the current new shipper period, and therefore, did not qualify for a NSR.³ The complete discussion of the Department's decision to preliminarily rescind the NSR was set forth in its preliminary analysis memorandum, dated July 31, 2012.⁴ We invited interested parties to comment on our preliminary rescission of this NSR. No party submitted comments.

² See Preliminary Rescission.

³ See Preliminary Rescission at 45334.

⁴ See Memorandum to Angelica L. Mendoza, AD/CVD Operations, Office 7, entitled “Preliminary Analysis of Apicola Danangie's Entries in the Antidumping Duty New Shipper Review of Honey from Argentina,” dated July 31, 2012.

Period of Review

Pursuant to 19 CFR 351.214(g), the period of review (“POR”) for this NSR is the annual period of December 1, 2010, through November 30, 2011.

Scope of the Order

The merchandise covered by the order is honey from Argentina. The products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form. The merchandise is currently classifiable under subheadings 0409.00.00, 1702.90.90, and 2106.90.99 of the Harmonized Tariff Schedule of the United States (“HTSUS”). Although the HTSUS subheadings are provided for convenience and customs purposes, the Department's written description of the merchandise under the order is dispositive.

Rescission of the Antidumping Duty New Shipper Review

The NSR provisions of the Department's regulations require that the entity making a request for an NSR must document and certify, among other things: (1) The date on which subject merchandise of the exporter or producer making the request was first entered or withdrawn from warehouse, for consumption, or, if it cannot establish the date of first entry, the date on which the exporter or producer first shipped the merchandise for export to the United States; (2) the volume of that and subsequent shipments; and (3) the date of the first sale to an unaffiliated customer in the United States.⁵ The Department has not acquired nor received any additional information that would alter our preliminary determination that Danangie, having sold subject merchandise prior to the new shipper review period, does not qualify for a NSR in accordance with 19 CFR 351.241(c), as Danangie failed to certify to and document its first entry of subject merchandise (honey) into the United States. Furthermore, since the publication of the Preliminary Rescission, the Department solicited comments from interested parties regarding the intended rescission of the NSR for Danangie; the Department received no comments.

⁵ See 19 CFR 351.214(b)(2)(iv).

Because we find Danagie did not have a qualifying, first entry during the new shipper period, we find that there is no qualifying sale to review. As such, we are rescinding this NSR. Accordingly, the all-others antidumping duty margin of 30.24 percent still applies for shipments of honey exported by Danangie for the period December 1, 2010, through November 30, 2011. We note that the Department revoked the antidumping duty order on honey from Argentina on September 21, 2012, with revocation effective August 2, 2012.⁶ Therefore, and as discussed below, we are rescinding this NSR and terminating suspension and the collection of cash deposits.

⁶ See Honey From Argentina; Final Results of Sunset Reviews and Revocation of Antidumping Duty and Countervailing Duty Orders, 77 FR 58524 (September 21, 2012) (“Revocation”).

Assessment Rate

The Department shall determine, and U.S. Customs and border Protection (“CBP”) shall assess, antidumping duties on all appropriate entries. Because we are rescinding this NSR, the all others rate of 30.24 percent applies to all exports of honey exported by Danangie. The assessment rate for Danangie's shipments, however, could change as the Department is conducting an administrative review of the antidumping duty order on honey from Argentina covering Danangie and the period of December 1, 2010, through November 30, 2011. Thus, we will instruct CBP to continue to suspend entries during the period December 1, 2010, through November 30, 2011, of subject merchandise exported by Danangie until CBP receives instructions relating to the administrative review of the honey antidumping order covering the period December 1, 2010, through November 30, 2011.

Termination of Suspension of Liquidation

As noted above, the Department revoked the antidumping duty order on honey from Argentina effective August 2, 2012. See Revocation. Pursuant to revocation of the order, the Department instructed CBP, on October 9, 2012, to terminate suspension of liquidation and collection of cash deposits on entries of the subject merchandise entered, or withdrawn from warehouse, on or after August 2, 2012. Accordingly, entries of subject merchandise on or after August 2, 2012, are not subject to suspension of liquidation or antidumping duty deposit requirements.

Notification to Importers

This notice serves as a reminder to the importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

The NSR and rescission notice are published in accordance with sections 751(a)(2)(B) and 777(i) of the Act, as amended and 19 CFR 351.214(f).

Dated: October 22, 2012.
Paul Piquado,
Assistant Secretary for Import Administration.

[FR Doc. 2012-26664 Filed 10-29-12; 8:45 am]

BILLING CODE 3510-DS-P